DEPARTMENT OF COMMERCE

National Oceanic and Atmospheric Administration

[I.D. 122203E]

Endangered and Threatened Species; Take of Anadromous Fish

AGENCY: National Marine Fisheries Service (NMFS), National Oceanic and Atmospheric Administration (NOAA), Commerce.

ACTION: Receipt of applications for scientific research/enhancement permits (1464 and 1467); request for comment.

SUMMARY: Notice is hereby given that NMFS has received permit applications from S.P. Cramer & Associates, Inc. (S.P. Cramer) in Chico, CA (1464), and A.P. Klimley in Davis, CA (1467). The permits would affect federally endangered Sacramento River winter-run Chinook salmon, threatened Central Valley spring-run Chinook salmon, and threatened Central Valley steelhead. This document serves to notify the public of the availability of the permit applications for review and comment before a final approval or disapproval is made by NMFS.

DATES: Written comments must be received at the appropriate address or fax number (see ADDRESSES) no later than 5 p.m. Pacific Standard Time on February 17, 2004.

Written comments on the permit applications should be sent to the Protected Resources Division, NMFS, 650 Capitol Mall, Suite 8-300, Sacramento, CA 95814. Comments may also be sent via fax to 916-930-3629. Comments will not be accepted if submitted via e-mail or the Internet. The applications and related documents are also available for review by appointment, for permits 1464 and 1467 at the aforementioned address.

FOR FURTHER INFORMATION CONTACT: Rosalie del Rosario at 916-930-3614, or e-mail: Rosalie.delRosario@noaa.gov.

SUPPLEMENTARY INFORMATION:

Authority

Issuance of permits and permit modifications, as required by the Endangered Species Act of 1973 (16 U.S.C. 1531 1543) (ESA), is based on a finding that such permits/modifications (1) are applied for in good faith, (2) would not operate to the disadvantage of the listed species which are the subject of the permits, and (3) are consistent with the purposes and policies set forth in section 2 of the ESA. Authority to take listed species is subject to conditions set forth in the permits. Permits and permit modifications are issued in accordance with and are subject to the ESA and NMFS regulations governing listed fish and wildlife permits (50 CFR parts 222-226).

Individuals requesting a hearing on either or both of the applications listed in this notice should set out in writing the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Sacramento River winter-run Chinook salmon (Oncorhynchus tshawytscha), threatened Central Valley spring-run Chinook salmon (O. tshawytscha), and threatened Central Valley steelhead (O. mykiss).

Permit Applications Received

S.P. Cramer requests a 5-year permit (1464) to take juvenile Central Valley steelhead to monitor its migratory behavior of O. mykiss in the Calaveras River, CA. The applicant requests authorization for an estimated annual take of 6,423 juvenile Central Valley steelhead (with 4.7 percent incidental mortality) resulting from capturing, tagging, and releasing fish.

A.P. Klimley requests a 2-year permit (1467) to handle and release adult winter-run Chinook salmon, spring-run Chinook salmon, and Central Valley steelhead that may be incidentally caught in nets deployed to capture green sturgeon (Acipenser medirostris) in the San Francisco Estuary and Sacramento River. Klimley requests authorization for an estimated annual take of 6 adult Sacramento River winter-run Chinook salmon, 15 adult Central Valley spring-run Chinook salmon, and 3 adult Central Valley steelhead, with no more than one third incidental mortality resulting from capture and release of fish.

Dated: January 9, 2004.
Phil Williams,
Chief, Endangered Species Division, Office of Protected Resources, National Marine Fisheries Service.

[FR Doc. 04-909 Filed 1-14-04; 8:45 am]

BILLING CODE 3510-22-S